ENVIRONMENTAL PROTECTION AGENCY

[OPP-66283; FRL-6772-9]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations.

DATES: Unless a request is withdrawn by, September 24, 2001, unless indicated otherwise, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 224, Crystal Mall No. 2, 1921 Jefferson Davis Highway, Arlington, VA 22202, (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information or Copies of Support Documents?

1. Electronically. You may obtain electronic copies of this document and certain other related documents that might be available electronically, from the EPA Internet Home Page at http://www.epa.gov. To access this document, on the Home page select “Laws and Regulations” “Regulations and Proposed Rules,” and then look up the entry for this document under the “Federal Register—Environmental Documents.” You can also go directly to the Federal Register listing at (http://www.epa.gov/fedrgstr/).

2. In person. Contact James A. Hollins at 1921 Jefferson Davis Highway, Crystal Mall No. 2, Rm. 224, Arlington, VA, telephone number (703) 305-5761. Available from 7:30 a.m. to 4:45 p.m., Monday thru Friday, excluding legal holidays.

II. What Action is the Agency Taking?

This notice announces receipt by the Agency of applications from registrants to cancel some 42 pesticide products registered under section 3 or 24(c) of FIFRA. These registrations are listed in sequence by registration number (or company number and 24(c) number) in the following Table 1:

Table 1. — Registrations With Pending Requests for Cancellation
Registration No. | Product Name | Chemical Name
000264-00544 | Bronate Gel Herbicide | 2-Ethylhexyl 2-methyl-4-chlorophenoxyacetate
|  | 3,5-Dibromo-4-hydroxybenzonitrile octanoate
|  | 3,5-Dibromo-4-hydroxybenzonitrile heptanoate
000264-00571 | Diva Fungicide | Tetrachloroisophthalonitrile
|  | 3-(3,5-Dichlorophenyl)-N-(1-methylethyl)-2,4-dioxo-1-imidazolidinecarboxamide
000270-00289 | Security Brand Captan Garden Spray | cis-N-Trichloromethylthio-4-cyclohexene-1,2-dicarboximide
000279 LA-00-0007 | Pounce 3.2 EC Insecticide | Cyclopropanecarboxylic acid, 3-(2,2-dichloroethenyl)-2,2-dimethyl-
000279 TX-97-0003 | Furadan 3G Insecticide-Nematicide | 2,3-Dihydro-2,2-dimethyl-7-benzofuranyl methylcarbamate
000352 AZ-93-0015 | Dupont Benlate Fungicide | Methyl 1-(butylcarbamoyl)-2-benzimidazolecarbamate
000352 WA-77-0040 | Du Pont Benlate Fungicide Wettable Powder | Methyl 1-(butylcarbamoyl)-2-benzimidazolecarbamate
000352 WA-87-0003 | Du Pont Telar Herbicide | 2-Chloro-N-(((4-methoxy-6-methyl-1,3,5-triazin-2-yl)amino)carbonyl)
000400 OR-99-0033 | Dimilin 2L | 1-(4-Chlorophenyl)-3-(2,6-difluorobenzoyl)urea
000432-00899 | Chipco Nivral Brand Thiodicarb Molluscicide | Dimethyl N,N'-(thiobis((methylimino)carbonyloxy))bis(ethanimidothioate)
000499-00250 | Whitmire PT 1300 Total Release Insecticide | O,S-Dimethyl acetylphosphoramidothioate
000572-00062 | Rockland Fruit Tree Spray | Methoxychlor (2,2-bis(p-methoxyphenyl)-1,1,1-trichloroethane)
|  | O,O-Dimethyl phosphorodithioate of diethyl mercaptosuccinate
|  | Sulfur
|  | cis-N-Trichloromethylthio-4-cyclohexene-1,2-dicarboximide
000829-00236 | SA-50 Fruit Spray Concentrate | Methoxychlor (2,2-bis(p-methoxyphenyl)-1,1,1-trichloroethane )
|  | O,O-Dimethyl phosphorodithioate of diethyl mercaptosuccinate
|  | Sulfur
|  | cis-N-Trichloromethylthio-4-cyclohexene-1,2-dicarboximide
001381-00160 | Agrosol | 2-(4'-Thiazolyl)benzimidazole
|  | cis-N-Trichloromethylthio-4-cyclohexene-1,2-dicarboximide
001381-00161 | Agrosol Flowable Systemic Commercial Seed Treatment Fun | 2-(4'-Thiazolyl)benzimidazole
|  | cis-N-Trichloromethylthio-4-cyclohexene-1,2-dicarboximide
001381-00167 | Gammasan Insecticide - Fungicide Hopper Box Seed Treatment | Lindane (Gamma isomer of benzene hexachloride) (99% pure gamma isomer)
|  | cis-N-Trichloromethylthio-4-cyclohexene-1,2-dicarboximide
001381-00172 | Granox P-F-M | Manganese ethylenebis(dithiocarbamate)
|  | cis-N-Trichloromethylthio-4-cyclohexene-1,2-dicarboximide
001381-00173 | Granox CHM Soybean Seed Treatment Fungicide | cis-N-Trichloromethylthio-4-cyclohexene-1,2-dicarboximide
001452-00003 | Hilo Dip | Rotenone
|  | Cube Resins other than rotenone
001459-00070 | Water Base Residual Insect Spray II contains Pyrenone A | O,O-Diethyl O-(2-isopropyl-6-methyl-4-pyrimidinyl) phosphorothioate
|  | (Butylcarbityl)(6-propylpiperonyl) ether 80% and related compounds 20%
|  | Pyrethrins
002935-00499 | Solve LV Ester 6 | Acetic acid, (2,4-dichlorophenoxy)-, 2-ethylhexyl ester
003125 MO-79-0012 | Sencor 4 Flowable Herbicide | 1,2,4-Triazin-5(4H)-one, 4-amino-6-(1,1-dimethylethyl)-3-(methylthio)-
005383-00073 | Troysan Polyphase P-15H | 3-Iodo-2-propynyl butylcarbamate
005383-00078 | Woodsman Solid Color Oil Stain | Bis(tributyltin) oxide
|  | 3-Iodo-2-propynyl butylcarbamate
005383-00083 | Troysan Polyphase GWP-1 Wood Preservative Clear | 3-Iodo-2-propynyl butylcarbamate
005383-00087 | Real-Wood Wood Preservative | 3-Iodo-2-propynyl butylcarbamate
005481 WA-91-0038 | K-Salt Fruit Fix 800 | Potassium 1-naphthaleneacetate
005481 WA-91-0039 | K-Salt Fruit Fix 200 | Potassium 1-naphthaleneacetate
007001 WA-94-0022 | Sim-Tec 0.50 | 2-(4'-Thiazolyl)benzimidazole
007173-00185 | Rozol Laq-Berry Rat and Mouse Bait | 2-((p-Chlorophenyl)phenylacetyl)-1,3-indandione
009779-00351 | Iprodione 4F | 3-(3,5-Dichlorophenyl)-N-(1-methylethyl)-2,4-dioxo-1-imidazolidinecarboxamide
010163 AZ-99-0004 | Imidan 70-WSB | N-(Mercaptomethyl)phthalimide S-(O,O-dimethyl phosphorodithioate)
010182-00226 | Eptam 87.8% Manufacturing Concentrate | S-Ethyl dipropylthiocarbamate
010182 OR-78-0054 | Ro-Neet 6E A Selective Herbicide Emulsifiable Liquid | S-Ethyl cyclohexylethylthiocarbamate
019713 OR-97-0005 | Drexel Dimethoate 2.67 | O,O-Dimethyl S-((methylcarbamoyl)methyl) phosphorodithioate
028293-00153 | Unicorn Rotenone Dip | Pyrethrins
|  | Rotenone
|  | Cube Resins other than rotenone
034704 WA-97-0007 | D-Z-N Diazinon 50W Insecticide | O,O-Diethyl O-(2-isopropyl-6-methyl-4-pyrimidinyl) phosphorothioate
047371-00183 | Formulation RTU-6075 (MA) | Alkyl* dimethyl benzyl ammonium chloride *(60%C14, 30%C16, 5%C18, 5%C12)
|  | Alkyl* dimethyl ethylbenzyl ammonium chloride *(50%C12, 30%C14, 17%C16, 3%C18)
050534 TX-92-0022 | Bravo 720 | Tetrachloroisophthalonitrile
059639 AZ-00-0008 | Orthene 90 S | O,S-Dimethyl acetylphosphoramidothioate
059639 AZ-93-0005 | Monitor 4 Spray | O,S-Dimethyl phosphoramidothioate
071368 OR-87-0008 | Weedar 64 Broad Leaf Herbicide | Dimethylamine 2,4-dichlorophenoxyacetate

Unless a request is withdrawn by the registrant within 180 days (30 days when requested by registrant) of publication of this notice, orders will be issued canceling all of these registrations. Users of these pesticides or anyone else desiring the retention of a registration should contact the applicable registrant during this comment period.

The following Table 2, includes the names and addresses of record for all registrants of the products in Table 1, in sequence by EPA company number:

Table 2. — Registrants Requesting Voluntary Cancellation
EPA Company No. | Company Name and Address
000264 | Aventis Cropscience USA LP, 2 T.W. Alexander Drive, Research Triangle Park, NC 27709.
000270 | Farnam Companies Inc., 301 W. Osborn Rd., Phoenix, AZ 85013.
000279 | FMC Corp., Agricultural Products Group, 1735 Market St., Philadelphia, PA 19103.
000352 | E. I. Du Pont De Nemours, Barley Mill Plaza, Walker's Mill, Wilmington, DE 19880.
000400 | Uniroyal Chemical Co, Inc., A Subsidiary of Crompton Corp., 74 Amity Rd, Bethany, CT 06524.
000432 | Aventis Environmental Science USA LP, 95 Chestnut Ridge Rd., Montvale, NJ 07645.
000499 | Whitmire Micro-Gen Research Laboratories Inc., 3568 Tree Ct., Industrial Blvd, St Louis, MO 63122.
000572 | Rockland Corp., 686 Passaic Ave., Box 809, West Caldwell, NJ 07007.
000829 | Southern Agricultural Insecticides, Inc., Box 218, Palmetto, FL 34220.
001381 | Agriliance, LLC, Box 64089, St. Paul, MN 55164.
001452 | Roccorp Inc., Box 785, Brunswick, OH 44212.
001459 | Bullen Companies, Box 37, Folcroft, PA 19032.
002935 | Wilbur Ellis Co., 191 W Shaw Ave, #107, Fresno, CA 93704.
003125 | Bayer Corp., Agriculture Division, 8400 Hawthorn Rd., Box 4913, Kansas City, MO 64120.
005383 | Lewis & Harrison, Agent For: Troy Chemical Corp., 122 C St NW, Suite 740, Washington, DC 20001.
005481 | AMVAC Chemical Corp., Attn: Jon C. Wood, 4695 Macarthur Ct., Suite 1250, Newport Beach, CA 92660.
007001 | J.R. Simplot Co., Box 198, Lathrop, CA 95330.
007173 | Liphatech, Inc., 3600 W. Elm Street, Milwaukee, WI 53209.
009779 | Agriliance, LLC, Box 64089, St Paul, MN 55164.
010163 | Gowan Co., Box 5569, Yuma, AZ 85366.
010182 | Zeneca Ag Products, Inc., 1800 Concord Pike, Wilmington, DE 19850.
019713 | Drexel Chemical Co., 1700 Channel Ave., Box 13327, Memphis, TN 38113.
028293 | Unicorn Laboratories, 12385 Automobile Blvd., Clearwater, FL 33762.
034704 | Jane Cogswell, Agent For: Platte Chemical Co, Inc., Box 667, Greeley, CO 80632.
047371 | H & S Chemicals Division, c/o Lonza Inc., 17-17 Route 208, Fair Lawn, NJ 07410.
050534 | GB Biosciences Corp., c/o Zeneca Ag Products, 1800 Concord Pike, Box 15458, Wilmington, DE 19850.
059639 | Valent U.S.A. Corp., 1333 N. California Blvd, Suite 600, Walnut Creek, CA 94596.
071368 | Nufarm Limited, c/o Nufarm Americas, Inc., 317 W. Florence Rd., St. Joseph, MO 64506.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for cancellation must submit such withdrawal in writing to James A. Hollins, at the address given above, postmarked before September 24, 2001, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1-year after the date the cancellation request was received by the Agency. This policy is in accordance with the Agency's statement of policy as prescribed in Federal Register of June 26, 1991 (56 FR 29362) (FRL 3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Agricultural commodities, Pesticides and pests.

Dated: March 8, 2001.
Richard D. Schmitt,
Associate Director, Information Resources and Services Division, Office of Pesticide Programs.

[FR Doc. 01-7286 Filed 3-27-01; 8:45 a.m.]

BILLING CODE 6560-50-S